DEPARTMENT OF THE INTERIOR

Fish and Wildlife Service

[FWS-R9-IA-2009-N0119; 96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species. The Endangered Species Act requires that we invite public comment on these permit applications.

DATES: Written data, comments or requests must be received by July 16, 2009.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: Hidden Harbor Marine Environmental Project, The Turtle Hospital, Marathon, FL, PRT-207047

The applicant requests a permit to export five green sea turtles (Chelonia mydas), one male and four immature animals, to Weymouth Sea Life Adventure Park and Marine Sanctuary, Dorset, United Kingdom, for the purpose of enhancement of the survival of the species.

Applicant: Konstantin Khrapko, Beth Israel Deaconess Medical Center, Boston, MA, PRT-215297

The applicant requests a permit to acquire from Coriell Institute of Medical Research, Camden, NJ, in interstate commerce fibroblast cell line cultures from bonobos (Pan paniscus) for the purpose of scientific research.

Applicant: Saint Louis Zoo, St. Louis, MO, PRT-201169

The applicant requests a permit to import one male and two female captive-born horned guans (Oreophasis derbianus) from African Safari Park, Puebla, Mexico, for the purpose of enhancement of the species through captive propagation and conservation education.

Applicant: Burke Museum, Seattle, WA, PRT-714601

The applicant requests renewal of their permit to export and re-import non-living museum specimens of endangered and threatened species of animals previously accessioned into the applicant's collection for scientific research. This notification covers activities to be conducted by the applicant over a 5-year period.

The following applicants request a permit to import the sport-hunted trophy of one male bontebok (Damaliscus pygargus pygargus) culled from a captive herd maintained under the management program of the Republic of South Africa, for the purpose of enhancement of the survival of the species.

Applicant: Brian H. Welker, Fulshear, TX, PRT-213427

Applicant: Donald E. Black, Saint Clair Shores, MI, PRT-209120

Applicant: William P. Weedon, Olivia, NC, PRT-211300

Dated: June 5, 2009
Lisa J. Lierheimer
Senior Permit Biologist, Branch of Permits, Division of Management Authority

[FR Doc. E9-14054 Filed 6-15-09; 8:45 am]

BILLING CODE 4310-55-S